SECURITIES AND EXCHANGE COMMISSION

[OMB Control No. 3235-0381]

Submission for OMB Review; Comment Request; Extension: Form 40-F

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Form 40-F (17 CFR 249.240f) is used by certain Canadian issuers to register a class of securities pursuant to Section 12(b) or (g) of the Securities Exchange Act of 1934 (“Exchange Act”) (15 U.S.C. 78l) or as an annual report pursuant to Section 13(a) or 15(d) of the Exchange Act (15 U.S.C. 78m(a) or 78o(d)). The information required in the Form 40-F is used by investors in making investment decisions with respect to the securities of such Canadian companies. We estimate that Form 40-F takes approximately 431.42 hours per response and that there is an average of approximately 175 responses annually. We estimate that 25% of the 431.42 hours per response is prepared by the issuer for an internal burden of 18,875 hours ((0.25 × 431.42) hours per response × 175 responses).

An agency may not conduct or sponsor, and a person is not required to respond to, a collection of information unless it displays a currently valid OMB control number.

The public may view and comment on this information collection request at: https://www.reginfo.gov/public/do/PRAViewICR?ref_nbr=202501-3235-002 or send an email comment to MBX.OMB.OIRA.SEC_desk_officer@omb.eop.gov within 30 days of the day after publication of this notice by April 21, 2025.

Dated: March 17, 2025.
Sherry R. Haywood,
Assistant Secretary.

[FR Doc. 2025-04762 Filed 3-19-25; 8:45 am]

BILLING CODE 8011-01-P